SOCIAL SECURITY ADMINISTRATION

[Docket No. SSA-2013-0028]

Notice of Senior Executive Service Performance Review Board Membership

AGENCY: Social Security Administration.

ACTION: Notice of Senior Executive Service Performance Review Board Membership.

Title 5, U.S. Code, 4314 (c)(4), requires that the appointment of Performance Review Board members be published in the Federal Register before service on said Board begins.

The following persons will serve on the Performance Review Board which oversees the evaluation of performance appraisals of Senior Executive Service members of the Social Security Administration:

Seth Binstock*

Donna Calvert*

Brad Flick

Hyacinth Hinojosa*

James Julian

Lydia Marshall*

Royce Min*

Van Nguyen

DeBorah Russell

Vance Teel

Amy Thompson*

Laura Train*

*New Member

Reginald F. Wells,
Deputy Commissioner for Human Resources.

[FR Doc. 2013-14200 Filed 6-13-13; 8:45 am]

BILLING CODE 4191-02-P